DEPARTMENT OF TRANSPORTATION

National Highway Traffic Safety Administration

[U.S. DOT Docket No. NHTSA-2013-0141]

Reports, Forms, and Recordkeeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes the collection of information for which NHTSA intends to seek OMB approval.

DATES: Comments must be received on or before March 24, 2014.

ADDRESSES: You may submit comments identified by DOT Docket ID Number NHTSA-2013-0141 using any of the following methods:

Electronic submissions: Go to http://www.regulations.gov. Follow the on-line instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays.

Fax: 1-202-493-2251.

Instructions: Each submission must include the Agency name and the Docket number for this Notice. Note that all comments received will be posted without change to http://www.regulations.gov including any personal information provided.

FOR FURTHER INFORMATION CONTACT: Dr. Dereece Smither, Contracting Officer's Technical Representative, Office of Behavioral Safety Research (NTI-131), National Highway Traffic Safety Administration, 1200 New Jersey Avenue SE., W46-489, Washington, DC 20590. Dr. Smither's phone number is 202-366-9794 and her email address is dereece.smither@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) the accuracy of the agency's estimate of the burden of the proposed collection of information, including the validity of the methodology and assumptions used;

(iii) how to enhance the quality, utility, and clarity of the information to be collected; and

(iv) how to minimize the burden of the collection of information on those who are to respond, including the use of appropriate automated, electronic, mechanical, or other technological collection techniques or other forms of information technology, e.g., permitting electronic submission of responses.

In compliance with these requirements, NHTSA asks public comment on the following proposed collection of information:

Title—Evaluation of the Advanced Roadside Impaired Driving Enforcement (ARIDE) Curriculum

Type of Request—New information collection requirement.

OMB Clearance Number—None.

Form Number—NHTSA Forms 1230, 1231, 1232, 1233, 1234, 1235, 1236, 1237, 1238, and 1239.

Requested Expiration Date of Approval—3 years from date of approval.

Summary of the Collection of Information—NHTSA proposes to conduct an evaluation of the Advanced Roadside Impaired Driving Enforcement (ARIDE) Curriculum. The National Highway Traffic Safety Administration (NHTSA) and the International Association of Chiefs of Police (IACP) currently offers a 16-hour instructor-led course entitled Advanced Roadside Impaired Driving Enforcement (ARIDE) to law enforcement officers. This training, currently in use in many States, is an effort to train officers to recognize the signs and symptoms of persons who may be under the influence of drugs, including alcohol. The ARIDE program has been described by law enforcement leaders as a valuable tool for officers in the identification of impaired drivers.

This evaluation will assess the ways in which the ARIDE course is implemented and will examine learner performance. Key study measures include:

• Similarities and differences in course delivery among various ARIDE courses;

• Course participants' short- and long-term retention of information learned during the training; and,

• The overall effect of the training on the student's performance of their enforcement duties.

These measures will be captured using videotaped observations, interviews with participants, instructors, and fellow officers, and examining course assessments. Law enforcement officers who have not attended the course will serve as a control group. Data from four different groups of participants will be a collected during the course of this project:

• Law Enforcement Officers taking the ARIDE Training will be given a course survey, pre and post-course tests, and a follow-up observational survey,

• Law Enforcement Officials will be interviewed about their respective officers and about the ARIDE program in general,

• Course Administrators and Instructors will be surveyed about course implementation,

• Colleagues of the ARIDE-Trained Officers, including DRE (Drug Recognition Experts) Officers, will be surveyed about their interactions with ARIDE-Trained and non-ARIDE-Trained Officers.

Participation by all respondents is voluntary. The personally identifiable information used to contact respondents would be held separately from the information provided by all participants so that no connection can be made between the two. All results will be reported in aggregate.

Description of the Need for the Information and Proposed Use of the Information—NHTSA was established to reduce the number of deaths, injuries, and economic losses resulting from motor vehicle crashes on the Nation's highways. As part of this statutory mandate, NHTSA is authorized to conduct research as a foundation for the development of motor vehicle standards and traffic safety programs.

NHTSA has received several directives regarding training law enforcement officers to identify DUID (the most recent, the Office of National Drug Control Policy's strategy ¹ for preventing drugged driving). Therefore, it is important that NHTSA provide the most up-to-date, informative, applicable, and effective (in terms of cost, time, and resources) curriculum possible to a broad audience of law enforcement officers.

¹ Office of National Drug Control Policy (2010). The Presidents' national drug control strategy—2010 (pp. 23-24). Washington, DC: Author. Retrieved from http://www.whitehousedrugpolicy.gov/publications/policy/ndcs10/index.html.

For many types of courses, NHTSA will hear that the training was a “success” because hundreds of students were trained, or because a certain number of students passed the test with a “high” score. However, neither of these explanations is sufficient to inform us as to what the students learned, whether, and for how long, they will retain the knowledge, and how they will use that information. NHTSA is interested in implementing strong and pertinent curricula, and conducting solid evaluations of those courses that can help teach individuals (in this case, law enforcement officers, prosecutors, and other traffic safety professionals) in a cost-effective manner, about recognition of drug and alcohol impairment. Therefore, the purpose of this project is to evaluate the ARIDE curriculum, as it is currently delivered, and assess the overall effectiveness of linking the objectives to the course materials, and how the objectives contribute to enhancing the officers' skill at making informed arrest decisions at the roadside. Overall, the information gained as a result of this project will be instrumental in guiding potential improvements to the training of officers in the detection, apprehension, and prosecution of impaired drivers.

Description of the Likely Respondents (Including Estimated Number, and Proposed Frequency of Response to the Collection of Information)—The primary data collection populations for this research design include:

• Law enforcement officers, specifically ARIDE Training Participants (learner group) and individuals that intend to take the ARIDE training in the near future (control group);

• Partners/colleagues of law enforcement officers, specifically the peers of the individuals in the learner and control groups, including DREs;

• First-line supervisors and Leaders of law enforcement officers in both the learner and control groups; and

• ARIDE Course Administrators/Instructors.

The IACP and NHTSA offer approximately 150 classes annually, which provide training to approximately 2400 officers each year. Based on our research of the design effects of similar studies and prior experiences evaluating other training programs, as well as the accommodation of current project fiscal parameters, we propose a two stage sampling plan of selecting a total of 1200 participants across states (N=1200). First, we will select six states nationwide that plan to have ARIDE courses in 2014/2015 to obtain a sample population of 1200 potential participants that satisfy the inclusion criterion above. The states will be selected to represent different regions of the country, and, if relevant, different policies in the implementation of ARIDE. To secure the control group, states that mandate 100 percent ARIDE course participation will not be selected, nor will states with so few participants that the intended sample size cannot be obtained. Our sampling plan assumes an average of 20 participants per course administration, and five course administrations per state.

NHTSA expects the ARIDE Training Participants to complete course assessment and survey materials and post-course follow up materials which will be made available in online and paper versions. NHTSA estimates that the ARIDE Training Participants will take an average of 7 hours to complete the course assessment materials and post-course assessment and survey information. The Control Group study participants will require only 1 hour to complete the knowledge assessment and survey information. NHTSA estimates partners and colleagues of the law enforcement officers who have completed the ARIDE course will need approximately 20 minutes to complete a survey about ARIDE-trained and non-ARIDE-trained officer's activities. NHTSA estimates that the Supervisors and Organizational Leaders of ARIDE and non-ARIDE trained officers will need approximately 1 hour to complete interview and survey information about their respective officers and about the ARIDE program in general. The survey of ARIDE Course Administrators and Instructors gauging their opinions about course administration and implementation will require about 30 minutes to complete.

Estimate of the Total Annual Reporting and Recordkeeping Burden Resulting From the Collection of Information—NHTSA estimates that the ARIDE Training Participants will take an average of 7 hours to complete the course assessment materials and post-course assessment and survey information, for a total of 4200 hours for the assessments/surveys (600 ARIDE Training Participants × 7 hours). The Control Group study participants will require 1 hour to complete the knowledge assessment and survey information, which would produce a total of 600 hours burden (600 non-ARIDE-Trained officers × 1 hour). NHTSA estimates Partners and Colleagues of the law enforcement officers who have completed the ARIDE course will need approximately 20 minutes to complete a survey about ARIDE-trained and non-ARIDE-trained officer's activities, which would result in a burden of 34 hours (100 colleagues × 20 minutes). NHTSA estimates that the Supervisors and Organizational Leaders of ARIDE and non-ARIDE trained officers will need approximately 1 hour to complete interview and survey information about their respective officers and about the ARIDE program in general, which would result in a burden of 50 hours (50 Law Enforcement Supervisors/Leaders). The survey of ARIDE Course Administrators and Instructors gauging their opinions about course administration and implementation will require about 30 minutes to finish, which will produce a burden of 20 hours (40 Course Administrators/Instructors × 30 minutes). NHTSA expects that the study period will cover a single calendar year. Thus the annual reporting burden would be 4,904 hours. The respondents would not incur any reporting cost from the information collection. The respondents also would not incur any record keeping burden or record keeping cost from the information collection.

Authority: 44 U.S.C. Section 3506(c)(2)(A).

Issued on: January 15, 2014.
Jeff Michael,
Associate Administrator, Research and Program Development.

[FR Doc. 2014-01014 Filed 1-17-14; 8:45 am]

BILLING CODE 4910-59-P